DEPARTMENT OF COMMERCE

International Trade Administration

[A-533-938]

Oleoresin Paprika From India: Initiation of Less-Than-Fair-Value Investigation

AGENCY: Enforcement and Compliance, International Trade Administration, Department of Commerce.

DATES: Applicable July 15, 2025.

FOR FURTHER INFORMATION CONTACT: Myrna Lobo, Office VII, AD/CVD Operations, Enforcement and Compliance, International Trade Administration, U.S. Department of Commerce, 1401 Constitution Avenue NW, Washington, DC 20230; telephone: (202) 482-2371.

SUPPLEMENTARY INFORMATION:

The Petition

On June 25, 2025, the U.S. Department of Commerce (Commerce) received an antidumping duty (AD) petition concerning imports of oleoresin paprika from India, filed in proper form on behalf of Rezolex, Ltd. Co. (the petitioner), a domestic producer of oleoresin paprika.¹ The AD Petition was accompanied by a countervailing duty (CVD) petition concerning imports of oleoresin paprika from India.²

¹ See Petitioner's Letter, “Petition for the Imposition of Antidumping Duties and Countervailing Duties,” dated June 25, 2025 (Petition).

² Id.

Between June 27 and July 9, 2025, Commerce requested additional information pertaining to certain aspects of the Petition in supplemental questionnaires.³ Between July 1 and 10, 2025, the petitioner filed timely responses to these requests for additional information.⁴

³ See Commerce's Letters, “Supplemental Questions,” dated June 27, 2025 (First General Issues Supplemental Questionnaire); “Supplemental Questions,” dated June 27, 2025; “Second Supplemental Questions,” dated July 7. 2025; and “Second General Issues Supplemental Questions,” dated July 9, 2025 (Second General Issues Supplemental Questionnaire).

⁴ See Petitioner's Letters, “Response to Supplemental Questions,” dated July 1, 2025 (First General Issues Supplement); “Response to Supplemental Questions,” dated July 1, 2025; “Response to Supplemental Questions,” dated July 9, 2025; and “Response to Supplemental Questions,” dated July 10, 2025 (Second General Issues Supplement).

In accordance with section 732(b) of the Tariff Act of 1930, as amended (the Act), the petitioner alleges that imports of oleoresin paprika from India are being, or are likely to be, sold in the United States at less than fair value (LTFV) within the meaning of section 731 of the Act, and that imports of such products are materially injuring, or threatening material injury to, the oleoresin paprika industry in the United States. Consistent with section 732(b)(1) of the Act, the Petition was accompanied by information reasonably available to the petitioner supporting its allegations.

Commerce finds that the petitioner filed the Petition on behalf of the domestic industry, because the petitioner is an interested party, as defined in section 771(9)(C) of the Act. Commerce also finds that the petitioner demonstrated sufficient industry support for the initiation of the requested LTFV investigation.⁵

⁵ See section on “Determination of Industry Support for the Petition,” infra.

Period of Investigation (POI)

Because the Petition was filed on June 25, 2025, pursuant to 19 CFR 351.204(b)(1), the POI for the India LTFV investigation is April 1, 2024, through March 31, 2025.

Scope of the Investigation

The product covered by this investigation is oleoresin paprika from India. For a full description of the scope of this investigation, see the appendix to this notice.

Comments on the Scope of the Investigation

Between June 27 and July 9, 2025, Commerce requested information and clarification from the petitioner regarding the proposed scope to ensure that the scope language in the Petition is an accurate reflection of the products for which the domestic industry is seeking relief.⁶ Between July 1 and 10, 2025, the petitioner provided clarifications and revised the scope.⁷ The description of merchandise covered by this investigation, as described in the appendix to this notice, reflects these clarifications.

⁶ See First General Issues Supplemental Questionnaire; see also Second General Issues Supplemental Questionnaire.

⁷ See First General Issues Supplement at 1-6; see also Second General Issues Supplement at 1-4.

As discussed in the Preamble to Commerce's regulations, we are setting aside a period for interested parties to raise issues regarding product coverage (i.e., scope).⁸ Commerce will consider all scope comments received from interested parties and, if necessary, will consult with interested parties prior to the issuance of the preliminary determination. If scope comments include factual information,⁹ all such factual information should be limited to public information. Commerce requests that interested parties provide at the beginning of their scope comments a public executive summary for each comment or issue raised in their submission. Commerce further requests that interested parties limit their public executive summary of each comment or issue to no more than 450 words, not including citations. Commerce intends to use the public executive summaries as the basis of the comment summaries included in the analysis of scope comments. To facilitate preparation of its questionnaires, Commerce requests that scope comments be submitted by 5:00 p.m. Eastern Time (ET) on August 4, 2025, which is 20 calendar days from the signature date of this notice. Any rebuttal comments, which may include factual information, and should also be limited to public information, must be filed by 5:00 p.m. ET on August 14, 2025, which is 10 calendar days from the initial comment deadline.

⁸ See Antidumping Duties; Countervailing Duties, Final Rule, 62 FR 27296, 27323 (May 19, 1997) (Preamble); see also 19 CFR 351.312.

⁹ See 19 CFR 351.102(b)(21) (defining “factual information”).

Commerce requests that any factual information that parties consider relevant to the scope of this investigation be submitted during that period. However, if a party subsequently finds that additional factual information pertaining to the scope of the investigation may be relevant, the party must contact Commerce and request permission to submit the additional information. All scope comments must be filed simultaneously on the records of the concurrent LTFV and CVD investigations.

Filing Requirements

All submissions to Commerce must be filed electronically via Enforcement and Compliance's Antidumping Duty and Countervailing Duty Centralized Electronic Service System (ACCESS), unless an exception applies.¹⁰ An electronically filed document must be received successfully in its entirety by the time and date it is due.

¹⁰ See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, effective August 5, 2011. Information on using ACCESS can be found at https://access.trade.gov/help.aspx and a handbook can be found at https://access.trade.gov/help/Handbook_on_Electronic_Filing_Procedures.pdf.

Comments on Product Characteristics

Commerce is providing interested parties an opportunity to comment on the appropriate physical characteristics of oleoresin paprika to be reported in response to Commerce's AD questionnaires. This information will be used to identify the key physical characteristics of the subject merchandise in order to report the relevant cost of production (COP) accurately, as well as to develop appropriate product comparison criteria.

Interested parties may provide any information or comments that they feel are relevant to the development of an accurate list of physical characteristics. Specifically, they may provide comments as to which characteristics are appropriate to use as: (1) general product characteristics; and (2) product comparison criteria. We note that it is not always appropriate to use all product characteristics as product comparison criteria. We base product comparison criteria on meaningful commercial differences among products. In other words, although there may be some physical product characteristics utilized by manufacturers to describe oleoresin paprika, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on August 4, 2025, which is 20 calendar days from the signature date of this notice. Any rebuttal comments must be filed by 5:00 p.m. ET on August 14, 2025, which is 10 calendar days from the initial comment deadline. All comments and submissions to Commerce must be filed electronically using ACCESS, as explained above, on the record of the LTFV investigation.

Determination of Industry Support for the Petition

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹¹ they do so for different purposes and pursuant to a separate and distinct authority. In addition, Commerce's determination is subject to limitations of time and information. Although this may result in different definitions of the like product, such differences do not render the decision of either agency contrary to law.¹²

¹¹ See section 771(10) of the Act.

¹² See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation.¹³ Based on our analysis of the information submitted on the record, we have determined that oleoresin paprika, as defined in the scope, constitutes a single domestic like product, and we have analyzed industry support in terms of that domestic like product.¹⁴

¹³ For a discussion of the domestic like product analysis as applied to this case and information regarding industry support, see Checklist, “Antidumping Duty Investigation Initiation Checklist: Oleoresin Paprika from India,” dated concurrently with, and hereby adopted by, this notice (India AD Initiation Checklist), at Attachment II, “Analysis of Industry Support for the Antidumping and Countervailing Duty Petitions Covering Oleoresin Paprika from India.” This checklist is on file electronically via ACCESS.

¹⁴ Id.

In determining whether the petitioner has standing under section 732(c)(4)(A) of the Act, we considered the industry support data contained in the Petition with reference to the domestic like product as defined in the “Scope of the Investigation,” in the appendix to this notice. To establish industry support, the petitioner provided its own production of the domestic like product in 2024.¹⁵ The petitioner identified itself as the sole remaining producer of the domestic like product; therefore, the Petition is supported by 100 percent of the U.S. industry.¹⁶ We relied on data provided by the petitioner for purposes of measuring industry support.¹⁷

¹⁵ Id.

¹⁶ Id.

¹⁷ Id.

Our review of the data provided in the Petition, the First General Issues Supplement, and other information readily available to Commerce indicates that the petitioner has established industry support for the Petition.¹⁸ First, the Petition established support from domestic producers (or workers) accounting for more than 50 percent of the total production of the domestic like product and, as such, Commerce is not required to take further action in order to evaluate industry support (e.g., polling).¹⁹ Second, the domestic producers (or workers) have met the statutory criteria for industry support under section 732(c)(4)(A)(i) of the Act because the domestic producers (or workers) who support the Petition account for at least 25 percent of the total production of the domestic like product.²⁰ Finally, the domestic producers (or workers) have met the statutory criteria for industry support under section 732(c)(4)(A)(ii) of the Act because the domestic producers (or workers) who support the Petition account for more than 50 percent of the production of the domestic like product produced by that portion of the industry expressing support for, or opposition to, the Petition.²¹ Accordingly, Commerce determines that the Petition was filed on behalf of the domestic industry within the meaning of section 732(b)(1) of the Act.²²

¹⁸ Id.

¹⁹ Id.; see also section 732(c)(4)(D) of the Act.

²⁰ See Attachment II of the India AD Initiation Checklist.

²¹ Id.

²² Id.

Allegations and Evidence of Material Injury and Causation

The petitioner alleges that the U.S. industry producing the domestic like product is being materially injured, or is threatened with material injury, by reason of the imports of the subject merchandise sold at LTFV. In addition, the petitioner alleges that subject imports from India exceed the negligibility threshold provided for under section 771(24)(A) of the Act.²³

²³ For further discussion, see India AD Initiation Checklist at Attachment III, “Analysis of Allegations and Evidence of Material Injury and Causation for the Antidumping and Countervailing Duty Petitions Covering Oleoresin Paprika from India.”

The petitioner contends that the industry's injured condition is illustrated by a significant increase in the volume of subject imports; lost sales and revenues; underselling and price depression and/or suppression; declines in production, capacity utilization, and sales volume; and negative impact on financial performance.²⁴ We assessed the allegations and supporting evidence regarding material injury, threat of material injury, causation, as well as negligibility, and we have determined that these allegations are properly supported by adequate evidence, and meet the statutory requirements for initiation.²⁵

²⁴ Id.

²⁵ Id.

Allegations of Sales at LTFV

The following is a description of the allegations of sales at LTFV upon which Commerce based its decision to initiate an LTFV investigation of imports of oleoresin paprika from India. The sources of data for the deductions and adjustments relating to U.S. price and normal value (NV) are discussed in greater detail in the India AD Initiation Checklist.

U.S. Price

The petitioner calculated export price (EP) based on pricing information for oleoresin paprika produced in India and sold or offered for sale in the U.S. market.²⁶ The petitioner made certain adjustments to U.S. price to calculate a net ex-factory U.S price, where applicable.²⁷

²⁶ See India AD Initiation Checklist.

²⁷ Id.

Normal Value ²⁸

²⁸ In accordance with section 773(b)(2) of the Act, for this investigation, Commerce will request information necessary to calculate the constructed value (CV) and COP to determine whether there are reasonable grounds to believe or suspect that sales of the foreign like product have been made at prices that represent less than the COP of the product.

The petitioner calculated NV on home market pricing information it obtained for oleoresin paprika produced in and sold, or offered for sale, in India during the POI.²⁹ The petitioner provided information indicating that the prices for oleoresin paprika sold or offered for sale in India were below the COP. Therefore, the petitioner calculated NV based on CV.

²⁹ See India AD Initiation Checklist.

Normal Value Based on Constructed Value

As noted above, the petitioner provided information indicating the prices for oleoresin paprika sold or offered for sale in India were below the COP. Therefore, the petitioner calculated NV based on CV.³⁰

³⁰ Id.

Pursuant to section 773(e) of the Act, the petitioner calculated CV as the sum of the cost of manufacturing, selling, general, and administrative (SG&A) expenses, financial expenses, and profit.³¹ In calculating the cost of manufacturing, the petitioner relied on its own production experience and input consumption rates for oleoresin paprika, valued using publicly available information applicable to India.³² For calculating SG&A expenses, financial expenses, and profit ratios, the petitioner relied on the fiscal year 2023-2024 financial statements of a producer of identical merchandise domiciled in India.³³

³¹ Id.

³² Id.

³³ Id.

Fair Value Comparison

Based on the data provided by the petitioner, there is reason to believe that imports of oleoresin paprika from India are being, or are likely to be, sold in the United States at LTFV. Based on comparisons of EP to NV in accordance with sections 772 and 773 of the Act, the estimated dumping margins for oleoresin paprika from India range from 235.82-284.83 percent.³⁴

³⁴ Id.

Initiation of LTFV Investigation

Based upon the examination of the Petition and supplemental responses, we find that they meet the requirements of section 732 of the Act. Therefore, we are initiating an LTFV investigation to determine whether imports of oleoresin paprika from India are being, or are likely to be, sold in the United States at LTFV. In accordance with section 733(b)(1)(A) of the Act and 19 CFR 351.205(b)(1), unless postponed, we will make our preliminary determination no later than 140 days after the date of this initiation.

Respondent Selection

In the Petition, the petitioner identified 57 companies in India as producers and/or exporters of oleoresin paprika.³⁵ Following standard practice in LTFV investigations involving market economy countries, in the event Commerce determines that the number of companies is large such that Commerce cannot individually examine each company based on its resources, Commerce intends to select mandatory respondents based on U.S. Customs and Border Protection (CBP) data for imports under the appropriate Harmonized Tariff Schedule of the United States (HTSUS) subheading(s) listed in the “Scope of the Investigation,” in the appendix.

³⁵ See Petition at Volume I (page 30 and Exhibit I-17); see also First General Issues Supplement at 1 and Exhibit I-SUPP-1.

On July 9, 2025, Commerce released CBP data on imports of oleoresin paprika from India, under administrative protective order (APO) to all parties with access to information protected by APO and indicated that should Commerce initiate an investigation, interested parties wishing to comment on CBP data and/or respondent selection must do so within three business days of the publication date of the notice of initiation of this investigation.³⁶ Comments must be filed electronically using ACCESS. An electronically filed document must be received successfully in its entirety via ACCESS by 5:00 p.m. ET on the specified deadline. Commerce will not accept rebuttal comments regarding the CBP data or respondent selection.

³⁶ See Memorandum, “Release of U.S. Customs and Border Protection Entry Data,” dated July 9, 2025.

Interested parties must submit applications for disclosure under APO in accordance with 19 CFR 351.305(b). Instructions for filing such applications may be found on Commerce's website at https://www.trade.gov/administrative-protective-orders.

Distribution of Copies of the Petition

In accordance with section 732(b)(3)(A) of the Act and 19 CFR 351.202(f), a copy of the public version of the Petition has been provided to the Government of India via ACCESS. To the extent practicable, we will attempt to provide a copy of the public version of the Petition to each exporter named in the Petition, as provided under 19 CFR 351.203(c)(2).

ITC Notification

Commerce will notify the ITC of our initiation, as required by section 732(d) of the Act.

Preliminary Determination by the ITC

The ITC will preliminarily determine, within 45 days after the date on which the Petition was filed, whether there is a reasonable indication that imports of oleoresin paprika from India are materially injuring, or threatening material injury to, a U.S. industry.³⁷ A negative ITC determination will result in the investigation being terminated.³⁸ Otherwise, this LTFV investigation will proceed according to statutory and regulatory time limits.

³⁷ See section 733(a) of the Act.

³⁸ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³⁹ and, if the information is submitted to rebut, clarify, or correct factual information already on the record, to provide an explanation identifying the information already on the record that the factual information seeks to rebut, clarify, or correct.⁴⁰ Time limits for the submission of factual information are addressed in 19 CFR 351.301, which provides specific time limits based on the type of factual information being submitted. Interested parties should review the regulations prior to submitting factual information in this investigation.

³⁹ See 19 CFR 351.301(b).

⁴⁰ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act (i.e., a cost-based PMS allegation), the submission must be filed in accordance with the requirements of 19 CFR 351.416(b), and Commerce will respond to such a submission consistent with 19 CFR 351.301(c)(2)(v). If Commerce finds that a cost-based PMS exists under section 773(e) of the Act, then it will modify its dumping calculations appropriately.

Neither section 773(e) of the Act, nor 19 CFR 351.301(c)(2)(v), sets a deadline for the submission of cost-based PMS allegations and supporting factual information. However, in order to administer section 773(e) of the Act, Commerce must receive PMS allegations and supporting factual information with enough time to consider the submission. Thus, should an interested party wish to submit a cost-based PMS allegation and supporting new factual information pursuant to section 773(e) of the Act, it must do so no later than 20 days after submission of a respondent's initial section D questionnaire response.

We note that a PMS allegation filed pursuant to sections 773(a)(1)(B)(ii)(III) or 773(a)(1)(C)(iii) of the Act (i.e., a sales-based PMS allegation) must be filed within 10 days of submission of a respondent's initial section B questionnaire response, in accordance with 19 CFR 351.301(c)(2)(i) and 19 CFR 351.404(c)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁴¹ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in this investigation.⁴²

⁴¹ See 19 CFR 351.301; see also Extension of Time Limits; Final Rule, 78 FR 57790 (September 20, 2013) (Time Limits Final Rule), available at https://www.gpo.gov/fdsys/pkg/FR-2013-09-20/html/2013-22853.htm.

⁴² See 19 CFR 351.302; see also, e.g., Time Limits Final Rule.

Certification Requirements

Any party submitting factual information in an AD or CVD proceeding must certify to the accuracy and completeness of that information.⁴³ Parties must use the certification formats provided in 19 CFR 351.303(g).⁴⁴ Commerce intends to reject factual submissions if the submitting party does not comply with the applicable certification requirements.

⁴³ See section 782(b) of the Act.

⁴⁴ See Certification of Factual Information to Import Administration During Antidumping and Countervailing Duty Proceedings, 78 FR 42678 (July 17, 2013) (Final Rule). Additional information regarding the Final Rule is available at https://access.trade.gov/Resources/filing/index.html.

Notification to Interested Parties

Interested parties must submit applications for disclosure under APO in accordance with 19 CFR 351.305. Parties wishing to participate in this investigation should ensure that they meet the requirements of 19 CFR 351.103(d) (e.g., by filing the required letter of appearance). Note that Commerce has amended certain of its requirements pertaining to the service of documents in 19 CFR 351.303(f).⁴⁵

⁴⁵ See Administrative Protective Order, Service, and Other Procedures in Antidumping and Countervailing Duty Proceedings, 88 FR 67069 (September 29, 2023).

This notice is issued and published pursuant to sections 732(c)(2) and 777(i) of the Act, and 19 CFR 351.203(c).

Dated: July 15, 2025.
Christopher Abbott,
Deputy Assistant Secretary for Policy and Negotiations, performing the non-exclusive functions and duties of the Assistant Secretary for Enforcement and Compliance.

Appendix

Scope of the Investigation

The merchandise covered by the scope of this investigation is the coloring additive oleoresin paprika. Oleoresin paprika is a viscous, highly colored liquid in various shades of red or orange made from the extract of Capsicum peppers. Covered merchandise includes all oleoresin paprika, regardless of pepper variety, with an American Spice Trade Association (ASTA) value of at least 500 or a color unit (CU) value of at least 20,000 as determined by spectrophotometric measurement. The Chemical Abstracts Service (CAS) Registry numbers for oleoresin paprika are 68917-78-2 and 84625-29-6; the Center for Food Safety and Applied Nutrition (CFSAN) number is 977006-45-3; the Flavoring Extract Manufacturers' Association (FEMA) number is 2834; and the E number is E160c. Subject oleoresin paprika may also be referred to by other product names, including, but not limited to, paprika oleoresin, oleoresin of paprika, paprika extract, extract of paprika, paprika oil, or paprika essential oil.

Subject oleoresin paprika may be blended with oil or water prior to importation or may be imported in its crude or unstandardized form. Subject oleoresin paprika may also be blended with emulsifiers or preservatives. The scope includes all oleoresin paprika meeting the specifications above regardless of whether or not blended with or soluble in oil or water, and regardless of weight, pungency, quality, solvent content, or additives. Further, the scope includes crude or unstandardized oleoresin paprika that has been blended, finished, packaged, or otherwise processed in a third country, if the blending, finishing, packaging, or processing performed would not otherwise remove the merchandise from the scope. Oleoresin paprika that is otherwise subject to this investigation is not excluded when commingled with oleoresin paprika from sources not subject to this investigation, or when commingled with other oleoresins. Only the subject component of such commingled products is covered by the scope of this investigation.

The merchandise subject to this investigation is classified in the Harmonized Tariff Schedule of the United States (HTSUS) under subheadings 3203.00.8000 and 3301.90.1010. Subject merchandise may also enter under HTSUS subheading 1301.90.9190, 1302.19.9140, and 3205.00.0500. Although the HTSUS subheadings are provided for convenience and customs purposes, the written description of the scope of this investigation is dispositive.

[FR Doc. 2025-13695 Filed 7-21-25; 8:45 am]

BILLING CODE 3510-DS-P